DEPARTMENT OF COMMERCE

National Institute of Standards and Technology

Notice of Availability of Draft Programmatic Environmental Assessment for Modernization and Internal Expansion of Existing Semiconductor Fabrication Facilities Under the CHIPS Incentives Program

AGENCY: National Institute of Standards and Technology, Department of Commerce.

ACTION: Notice; availability of a draft Programmatic Environmental Assessment; request for comments.

SUMMARY: The National Institute of Standards and Technology (NIST) announces the availability of the Draft Programmatic Environmental Assessment (PEA) for the modernization and internal expansion of existing semiconductor fabrication facilities under the CHIPS Incentives Program. The PEA addresses financial assistance for the modernization or internal expansion of existing current-generation and mature-node commercial facilities within their existing footprint throughout the U.S. (the “Proposed Action”). NIST is requesting comments on the Draft PEA.

DATES: Comments must be received on or before January 25, 2024.

ADDRESSES: The PEA will be available for download and review at https://www.nist.gov/chips/national-environmental-policy-act-nepa no later than December 26, 2023, under the heading “NEPA Public Involvement.”

You may submit comments on this document by the following methods:

Electronic Submission: Submit all electronic public comments via email to ChipsNEPA@chips.gov citing “Modernization PEA” in the subject line. NIST will accept comments in attached Word or PDF formats or within the body of the email.

By mail: Comments can also be mailed to the CHIPS Incentives Program at: Department of Commerce; HCHB Room 7419; ATTN: CPO Environmental Division; 1401 Constitution Ave., Washington, DC 20230.

Instructions: Comments sent by any other method, to any other address or individual, or received after the end of the comment period, may not be considered by NIST. All comments received are a part of the public record; commenters should not include personal identifying information (e.g., name, address, etc.), confidential business information, or otherwise sensitive information. NIST will accept anonymous comments. The most helpful comments include a specific recommendation, explain the reason for any recommended change, and provide supporting information. NIST will consider all relevant comments received on or before the closing date.

FOR FURTHER INFORMATION CONTACT: David Frenkel, NIST, telephone number 240-204-1960, email David.Frenkel@chips.gov.

SUPPLEMENTARY INFORMATION: NIST has prepared the draft PEA in accordance with the National Environmental Policy Act (NEPA, 42 U.S.C. 4321 et seq.) and the Council on Environmental Quality's NEPA (CEQ) implementing regulations (40 CFR parts 1500-1508). The PEA addresses financial assistance for the modernization or internal expansion of existing current-generation and mature-node commercial facilities within their existing footprint throughout the U.S. (the “Proposed Action”).

Background

The CHIPS Incentives Program (Program) was authorized by title XCIX—Creating Helpful Incentives to Produce Semiconductors for America of the William M. (Mac) Thornberry National Defense Authorization Act for Fiscal Year 2021 (Pub. L. 116-283, as amended by the CHIPS Act of 2022 (Division A of Pub. L. 117-167) (the “CHIPS Act” or “Act”). The Program aims to boost American semiconductor research, development, and production. The Program is administered by the CHIPS Program Office (CPO) within NIST. The CHIPS Incentives Program Commercial Fabrication Facilities Notice of Funding Opportunity (NOFO) was originally published in February 2023 and amended in June 2023. The amended NOFO solicits applications for the construction, expansion, or modernization of commercial facilities for the front- and back-end fabrication of leading-edge, current-generation, and mature-node semiconductors; commercial facilities for wafer manufacturing; and commercial facilities for materials used to manufacture semiconductors and semiconductor manufacturing equipment, provided that the capital investment equals or exceeds $300 million. The potential amount available under the NOFO is up to $38.22 billion for direct funding and up to $75 billion in direct loan or guaranteed principals. CPO is responsible for completion of the NEPA process before financial assistance can be provided.

Draft PEA

The purpose of the Proposed Action is to invest in U.S. production of strategically important semiconductor chips, and assure a sufficient, sustainable, and secure supply of older and current generation chips for national security purposes and for critical manufacturing industries. As part of this effort, CPO aims to increase semiconductor manufacturing capacity and strengthen the security of the U.S. supply chain via the modernization of semiconductor production within the current footprint of existing eligible current-generation and mature-node semiconductor fabrication facilities. Such projects include the replacement or upgrade of existing equipment, the addition of new semiconductor manufacturing equipment within existing spaces, and expansion of cleanroom space.

For proposed projects to be covered under the PEA, CPO will evaluate the project for consistency with the scope of the PEA using an inclusion analysis document (e.g., memo, form, or checklist). This analysis document will include the relevant information learned from a site-specific review and serves as the NEPA analysis documentation for the administrative record as applied to specific projects. If the project includes activities outside of the scope of the PEA, then an additional or tiered NEPA document may be required. The PEA can be used as a planning tool to support tiered, site-specific analyses by narrowing the spectrum of environmental impacts to focus on project-level reviews as needed. The following scenarios describe the possible application of the PEA to a project and whether additional environmental review under NEPA is required:

1. All proposed project activities are described in the PEA or the activities are similar enough to the activities analyzed in the PEA to support a conclusion that their impacts will not be different from those described in the PEA; therefore, no additional NEPA review required;

2. One or more proposed project activities are within the scope of the PEA and others are not; therefore, additional NEPA review would be required; and

3. None of the proposed project activities are within the scope of the PEA; therefore, additional NEPA review would be required.

Authority: This notice is provided pursuant to NEPA and CEQ's NEPA implementing regulations (40 CFR 1506.6).

Tamiko Ford,
NIST Executive Secretariat.

[FR Doc. 2023-28487 Filed 12-26-23; 8:45 am]

BILLING CODE 3510-13-P